DEPARTMENT OF COMMERCE

National Oceanic and Atmospheric Administration

Evaluation of Heeia National Estuarine Research Reserve; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold an in-person public meeting to solicit input on the performance evaluation of the Heeia National Estuarine Research Reserve. NOAA also invites the public to submit written comments.

DATES: NOAA will hold an in-person public meeting on Tuesday, June 6, 2023, at 6 p.m. Hawaii Standard Time. NOAA will consider all relevant written comments received by Friday, June 16, 2023.

ADDRESSES: Comments may be submitted by one of the following methods:

• In-Person Public Meeting: Provide oral comments during the in-person public meeting on Tuesday, June 6, 2023, at 6 p.m. Hawaii Standard Time at Kakoo Oiwi, 46-406 Kamehameha Hwy., Kaneohe, HI 96744.

• Email: Send written comments to Michael Migliori, Evaluator, NOAA Office for Coastal Management, at Michael.Migliori@noaa.gov. Include “Comments on Performance Evaluation of Heeia National Estuarine Research Reserve” in the subject line of the message. NOAA will accept anonymous comments; however, the written comments NOAA receives are considered part of the public record, and the entirety of the comment, including the name of the commenter, email address, attachments, and other supporting materials, will be publicly accessible. Sensitive personally identifiable information, such as account numbers and Social Security numbers, should not be included with the comments. Comments that are not related to the performance evaluation of the Heeia National Estuarine Research Reserve or that contain profanity, vulgarity, threats, or other inappropriate language will not be considered.

FOR FURTHER INFORMATION CONTACT: Michael Migliori, Evaluator, NOAA Office for Coastal Management, by email at Michael.Migliori@noaa.gov or by phone at (443) 332-8936. A copy of the reserve management plan, may be viewed and downloaded at http://coast.noaa.gov/czm/evaluations/. A copy of the evaluation notification letter and most recent progress report may be obtained upon request by contacting Michael Migliori.

SUPPLEMENTARY INFORMATION: Section 315(f) of the Coastal Zone Management Act (CZMA) requires NOAA to conduct periodic evaluations of federally approved national estuarine research reserves. The evaluation process includes holding one or more public meetings, considering public comments, and consulting with interested Federal, State, and local agencies and members of the public. During the evaluation, NOAA will consider whether the management and operation of the reserve is deficient and whether the research at the reserve is consistent with the research guidelines developed under section 315(c) of the CZMA. When the evaluation is complete, NOAA's Office for Coastal Management will place a notice in the Federal Register announcing the availability of the final evaluation findings.

(Authority: 16 U.S.C. 1461)

Keelin Kuipers,
Deputy Director, Office for Coastal Management, National Ocean Service, National Oceanic and Atmospheric Administration.

[FR Doc. 2023-10258 Filed 5-12-23; 8:45 am]

BILLING CODE 3510-JE-P